SMALL BUSINESS ADMINISTRATION

[Declaration of Disaster #3254]

State of Missouri

As a result of the President's major disaster declaration on May 12, 2000, I find that the following Counties in the State of Missouri constitute a disaster area due to damages caused by severe thunderstorms and flash flooding that occurred on May 6 and 7, 2000: Crawford, Franklin, Gasconade, Jefferson, St. Charles, Ste. Genevieve, St. Francois, St. Louis County, Warren, and Washington. Applications for loans for physical damage as a result of this disaster may be filed until the close of business on July 11, 2000, and for loans for economic injury until the close of business on February 12, 2001 at the address listed below or other locally announced locations: U.S. Small Business Administration, Disaster Area 3 Office, 4400 Amon Carter Blvd., Suite 102, Fort Worth, TX 76155.

In addition, applications for economic injury loans from small businesses located in the following contiguous counties may be filed until the specified date at the above location: Callaway, Dent, Iron, Lincoln, Madison, Maries, Montgomery, Osage, Perry, and Phelps Counties, and the City of St. Louis in the State of Missouri, and Calhoun, Jersey, Madison, Monroe, Randolph, and St. Clair Counties in the State of Illinois.

The interest rates are:

For Physical Damage

Homeowners With Credit Available Elsewhere: 7.375%

Homeowners Without Credit Available Elsewhere: 3.687%

Businesses With Credit Available Elsewhere: 8.000%

Businesses and Non-Profit Organizations Without Credit Available Elsewhere: 4.000%

Others (Including Non-Profit Organizations) With Credit Available Elsewhere: 6.750%

For Economic Injury

Businesses and Small Agricultural Cooperatives Without Credit Available Elsewhere: 4.000%

The number assigned to this disaster for physical damage is 325406. For economic injury the numbers are 9H3600 for Missouri and 9H3700 for Illinois.

(Catalog of Federal Domestic Assistance Program Nos. 59002 and 59008)
Dated: May 18, 2000.
James E. Rivera,
Acting Associate Administrator for Disaster Assistance.

[FR Doc. 00-13231 Filed 5-25-00; 8:45 am]

BILLING CODE 8025-01-U